DEPARTMENT OF TRANSPORTATION

Pipeline and Hazardous Materials Safety Administration

Hazardous Materials: Notice of Actions on Special Permits

AGENCY: Pipeline and Hazardous Materials Safety Administration (PHMSA), DOT.

ACTION: Notice of actions on special permit applications; request for comments.

SUMMARY: In accordance with the procedures governing the application for, and the processing of, special permits from the Department of Transportation's Hazardous Material Regulations, notice is hereby given that the Office of Hazardous Materials Safety has received the application described herein.

DATES: Comments must be received on or before July 6, 2020.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on June 1, 2020.
Donald P. Burger,
Chief, General Approvals and Permits Branch.

Special Permits Data—Granted
Application No. | Applicant | Regulation(s) affected | Nature of the special permits thereof
10704-M | Airgas USA, LLC | 172.200, 172.400, 172.500, 173.302(a), 174.1, 177.800 | To modify the special permit to authorize additional 2.2 hazmat.
11911-M | Transfer Flow, Inc | 177.834(h), 178.700(c)(1) | To modify the special permit to authorize two new fuel cap designs.
12479-M | Luxfer Inc | 173.302a(a)(1) | To modify the special permit to authorize passenger carrying vessel as a mode of transport.
13270-M | Joyson Safety Systems Acquisition LLC | 173.301(a)(1), 173.302(a) | To modify the special permit to remove the five year from manufacture date restriction for transporting.
14175-M | Praxair, Inc | 180.209(b)(1)(iii), 180.209(b)(1)(iv) | To modify the special permit to clarify what is a package and what is a packaging and to authorize a 10-year retest interval for individual DOT specification 3A or 3AA cylinders, not exceeding 125 pounds water capacity configured into bundles.
14601-M | Gulbrandsen Chemicals, Inc | 173.302a(a)(1) | To modify the special permit to authorize the option of removing the safety relief system from non-DOT specification spherical pressure vessels manufactured in accordance with the special permit.
15848-M | Ambri Inc | 173.222(c)(1) | To modify the special permit to clarify certain batteries, cells and power systems and the marking requirements for them and to authorize party status to the special permit.
20324-M | General Dynamics Mission Systems, Inc | 172.101(j), 173.185(a)(1)(i) | To modify the special permit to authorize the transportation in commerce of slightly modified designs of approved batteries and cells.
20669-M | Louisiana Energy Services, Llc | 173.420 | To modify the special permit to authorize natural uranium.
20825-M | Space Exploration Technologies Corp | 172.300, 172.400, 173.302(a) | To modify the special permit to authorize additional origination and destination locations.
20907-M | Versum Materials, Inc | 171.23(a), 171.23(a)(3) | To modify the special permit to remove the requirement for a dedicated fleet for delivery and allow 3rd party vendors to make deliveries.
20942-N | Better Horse Inc | 172.101(i)(1), 172.200(a), 172.320(a), 172.400(a), 172.500(a), 173.60(a), 173.63(b) | To authorize the transportation in commerce of the Division 1.4S articles specified herein as limited quantities.
20969-N | Porsche Logistik Gmbh | 172.101(j) | To authorize the transportation in commerce of lithium batteries exceeding 35 kg by cargo-only aircraft.
20994-N | SK Innovation Co., Ltd | 172.101(j) | To authorize the transportation in commerce of lithium ion batteries that exceed 35 kg by cargo-only aircraft.
20996-N | Norfolk Southern Railway Company | 174.85(a) | To authorize the transportation in commerce of hazardous materials by rail without buffer cars between placarded cars and engines.
21004-M | Actia Corporation | 173.185(e) | To modify the special permit to authorize up to 150 low production lithium ion batteries to be shipped by motor vehicle.
21019-N | Halpern Import Company | 173.308(c)(2) | To authorize the transportation in commerce of lighters in non-DOT specification packaging by private or contract motor carrier, or by common carrier in a motor vehicle under exclusive use, between manufacturing sites, distribution centers and retail outlets.
21024-N | Spaceflight, Inc | 173.185(a) | To authorize the transportation in commerce of low production lithium batteries contained in equipment that exceed 35 kg by cargo-only aircraft.
21046-N | CSX Transportation, Inc | 172.203(a), 174.26 | To authorize the use of electronic means to maintain and communicate onboard train consist information in place of using paper documentation when hazardous materials are transported by rail, subject to special conditions as prescribed in the special permit. (mode 2).
21052-N | Siena Plastics LLC | 178.601(g)(5)(ii), 178.606 | To authorize the manufacture, mark, sale and use of plastic jerricans that have not passed the 28 day stack test. COVID-19 request for hand sanitizer (mode 1).

Special Permits Data—Denied
Application No. | Applicant | Regulation(s) affected | Nature of the special permits thereof
15347-M | Raytheon Missile Systems Co | 173.301, 173.302a | To modify the special permit to authorize passenger carrying aircraft as a mode of transportation.
20874-N | Zhejiang Terong Machinery Co., Ltd |  | To authorize the transportation in commerce of 2P containers containing liquefied gas.
21005-N | Federal Cartridge Company | 172.203(a), 173.56(h) | To authorize the transportation in commerce of “small arms” not conforming to the definition of cartridges, small arms as UN0014.
21007-N | Tradewater LLC | 173.306(a)(1) | To authorize the transportation in commerce of refrigerant gases as limited quantities when in receptacles exceeding 4 fluid ounces.
21023-N | Tire Seal, Inc | 173.304(d) | To authorize the manufacture, mark, sale, and use of certain non-DOT specification inner containers for the transportation in commerce of the hazardous materials authorized by this special permit.
21039-N | Advance Stores Company Incorporated | 173.6 | To authorize the transportation in commerce of hazardous materials by third-party delivery services as materials of trade in quantities that exceed what is currently authorized.

Special Permits Data—Withdrawn
Application No. | Applicant | Regulation(s) affected | Nature of the special permits thereof
20991-N | Veolia ES Technical Solutions, LLC | 173.51, 173.54(a), 173.56(b), 173.21(b) | To authorize the one-time, one-way transportation of unapproved cartridges for tools for the purpose of disposal.
21017-N | GBF, Inc | 173.199(e) | To authorize the transportation in commerce of Category B infectious substances (COVID-19) without requiring shippers to have the required training.
21038-N | Volvo Cars Of North America, LLC | 172.101(j) | To authorize the transportation in commerce of lithium ion batteries exceeding 35 kg net weight by cargo-only aircraft.

[FR Doc. 2020-12122 Filed 6-4-20; 8:45 am]

BILLING CODE 4909-60-P